DEPARTMENT OF HEALTH AND HUMAN SERVICES

Centers for Medicare & Medicaid Services

42 CFR Part 510

[CMS-5529-N]

RIN 0938-AU01

Medicare Program: Comprehensive Care for Joint Replacement Model Three-Year Extension and Changes To Episode Definition and Pricing; Extension of Comment Period

AGENCY: Centers for Medicare & Medicaid Services (CMS), HHS.

ACTION: Proposed rule; extension of comment period.

SUMMARY: This document extends the comment period for the proposed rule titled “Medicare Program: Comprehensive Care for Joint Replacement Model Three-Year Extension and Changes to Episode Definition and Pricing” that was published in the February 24, 2020 Federal Register. The comment period for the proposed rule, which would end on April 24, 2020, is extended until June 23, 2020.

DATES: The comment period for the proposed rule (85 FR 10516) is extended to 5 p.m., eastern daylight time, on June 23, 2020.

ADDRESSES: You may submit comments as outlined in the February 24, 2020 proposed rule (85 FR 10516). Please choose only one method listed.

FOR FURTHER INFORMATION CONTACT: Bobbie Knickman, (410) 786-4161. Heather Holsey, (410) 786-0028.

SUPPLEMENTARY INFORMATION:

Inspection of Public Comments: All comments received before the close of the comment period shall be made available for viewing by the public, including any personally identifiable or confidential business information that is included in a comment. We will post all comments received before the close of the comment period on the following website as soon as possible after they have been received: http://www.regulations.gov. Follow the search instructions on that website to view public comments.

In the February 24, 2020 Federal Register (85 FR 10516), we published a proposed rule titled “Medicare Program: Comprehensive Care for Joint Replacement Model Three-Year Extension and Changes to Episode Definition and Pricing.” The February 2020 proposed rule solicited public comments on our proposals to revise certain aspects of the Comprehensive Care for Joint Replacement (CJR) model including the episode of care definition, the target price calculation, the reconciliation process, the beneficiary notice requirements and the appeals process. In addition, for proposed performance years 6 through 8, it would eliminate the 50 percent cap on gainsharing payments, distribution payments, and downstream distribution payments for certain recipients. This proposed rule would also extend the additional flexibilities provided to hospitals related to certain Medicare program rules consistent with the revised episode of care definition. Additionally, the proposed rule would allow time to test the proposed changes by extending the length of the CJR model for an additional 3 years, through December 31, 2023, for certain participant hospitals. Finally, it solicits comment on how we might best conceptualize and design a future bundled payment model focused on lower extremity joint replacements (LEJR) procedures performed in the ambulatory surgical center (ASC) setting and could involve shared financial accountability.

In the April 6, 2020 Federal Register (85 FR 19230), we published an interim final rule with comment period (IFC) in order to ensure continuity of CJR model operations in participant hospitals during the public health emergency (PHE) for the COVID-19 pandemic so that we do not create any additional disruptions to the standard care procedures hospitals have in place during this challenging time, implementing a 3-month extension of CJR Performance Year 5, such that the end of Performance Year 5 is changed from December 31, 2020 to March 31, 2021. Additionally, the April 6, 2020 IFC amends the CJR extreme and uncontrollable circumstances policy to account for all participant hospitals affected by the PHE for the COVID-19 pandemic, such that for a fracture or non-fracture episode with a date of admission to the anchor hospitalization that is on or within 30 days before the date that the emergency period began or that occurs through the termination of the emergency period, actual episode payments are capped at the performance year target price determined for the applicable episode.

Further, we recognize that hospitals are focused on the COVID-19 pandemic. Given the challenges to the health care delivery system in responding to COVID-19 cases we want to be considerate of the medical community's ability to focus on reviewing the proposed rule and submitting comments given their current extraordinary focus on patient care during the COVID-19 pandemic. In order to maximize the opportunity for the public to provide meaningful input to CMS, we believe it is important to allow additional time for the public to prepare comments on the February 2020 proposed rule. Therefore, we are extending the comment period for the proposed rule by 60 days. This document announces the extension of the public comment period for the proposed rule, which will now end at 5 p.m., eastern daylight time, on June 23, 2020.

The Administrator of the Centers for Medicare & Medicaid Services (CMS), Seema Verma, having reviewed and approved this document, authorizes Evell J. Barco Holland, who is the Federal Register Liaison, to electronically sign this document for purposes of publication in the Federal Register.

Dated: April 14, 2020.
Evell J. Barco Holland,
Federal Register Liaison, Department of Health and Human Services.

[FR Doc. 2020-08717 Filed 4-23-20; 8:45 am]

BILLING CODE 4120-01-P